ENVIRONMENTAL PROTECTION AGENCY

[EPA-HQ-OPP-2019-0045; FRL-9992-39]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before June 19, 2019.

ADDRESSES: Submit your comments, identified by the Docket Identification (ID) Number and the File Symbol or EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA Registration Numbers: 100-1571, 100-1614, 100-1624, 352-890, 352-924. Docket ID number: EPA-HQ-OPP-2019-0128. Applicant: Syngenta Crop Protection, LLC, P.O. Box 18300, 410 Swing Road, Greensboro, NC 27419. Active ingredient: Oxathiapiprolin. Product type: Fungicide. Proposed use: Bushberry Crop Subgroup 13-07B, except lowbush blueberry and Tree Nuts Crop Group 14-12. Contact: RD

2. EPA Registration Number: 279-3013 (Technical) and 279-3051. Docket ID number: EPA-HQ-OPP-2018-0683. Applicant: FMC. Active ingredient: Permethrin. Product type: Insecticide. Proposed use: Celtuce; Cherry subgroup 12-12A; fennel, florence; leaf petiole vegetable subgroup 22B; peach, subgroup 12-12B; tea, plucked leaves at 20 ppm; vegetable, tuberous and corm, subgroup 1C; and a regional tolerance in/on fruit, small, vine climbing, except fuzzy kiwifruit, subgroup 13-07F. Contact: RD.

3. EPA Registration Number: 2724-478, 2724-481. Docket ID number: EPA-HQ-OPP-2019-0095. Applicant: Wellmark International, 1501 E. Woodfield Rd., Suite 200 W, Schaumburg, IL 60173, Active ingredient: Tau-fluvalinate. Product type: Insecticide. Proposed use: Use for outdoor areas, including residential and non-residential landscaped areas around institutional, public, commercial and industrial buildings, lawns, parks, recreational areas, schoolyards, athletic field, kennels, runs, and other areas where pets may frequent. Contact: RD.

4. EPA Registration Number: 45728-GE; 45728-GG. Docket ID number: EPA-HQ-OPP-2019-0092. Applicant: Taminco US LLC, 200 S. Wilcox Drive, Kingsport, TN 37660-5147. Active ingredient: Chlormequat chloride. Product type: Plant growth regulator. Proposed uses: Wheat, triticale, barley, oats, and grasses grown for seed. Contact: RD.

5. EPA Registration Number: 59639-185 and 59639-186. Docket ID number: EPA-HQ-OPP-2019-0154. Applicant: Valent U.S.A. LLC, P.O. Box 8025, Walnut Creek, CA 94596-8025. Active ingredient: Ethaboxam. Product type: Fungicide. Proposed use: Cowpea and field pea. Contact: RD.

6. EPA Registration Numbers: 71711-6, 71711-25 and 71711-27. Docket ID number: EPA-HQ-OPP-2018-0514. Applicant: Nichino America. Active ingredient: Pyraflufen-ethyl. Product type: Defoliant. Proposed use: Cottonseed, subgroup 20C; fruit, small vine climbing, except fuzzy kiwifruit, subgroup 13-07F; fruit, stone, crop group 12-12; hop, dried cones; nut, tree, group 14-12; tropical and subtropical, small fruit, edible peel, crop subgroup 23A; vegetable, tuberous and corm, subgroup 1C. Contact: RD.

Authority: 7 U.S.C. 136 et seq.

Dated: April 23, 2019.
Delores Barber,
Director, Information Technology and Resources Management Division, Office of Pesticide Programs.

[FR Doc. 2019-10449 Filed 5-17-19; 8:45 am]

BILLING CODE 6560-50-P